DEPARTMENT OF ENERGY

Federal Energy Regulatory Commission

[Docket No. PF07-15-000]

Algonquin Gas Transmission, LLC; Notice of Intent To Prepare an Environmental Impact Statement for the Proposed East to West Hubline Expansion Project, Request for Comments on Environmental Issues, and Notice of Public Scoping Meetings

October 16, 2007.

The staff of the Federal Energy Regulatory Commission (FERC or Commission) will prepare an environmental impact statement (EIS) that will identify and address the environmental impacts that could result from the construction and operation of the East to West HubLine Expansion Project (E2W Project or Project). The E2W Project is proposed by Algonquin Gas Transmission, LLC (Algonquin), which is an indirect wholly owned subsidiary of Spectra Energy Corp. The Commission will use the EIS in its decision-making process to determine whether or not to authorize the Project. This notice describes the proposed Project facilities and explains the scoping process that will be used to gather input from the public and interested agencies on the Project. Your input will help determine the issues that need to be evaluated in the EIS. Please note that the scoping period for the Project will close on November 21, 2007.

Comments on the Project may be submitted in written form or verbally. In lieu of or in addition to sending written comments, you are invited to attend the public scoping meetings that have been scheduled in the Project area. These meetings are scheduled for November 5, 2007 in Randolph, Massachusetts; November 7, 2007 in North Andover, Massachusetts; and November 8, 2007 in Norwich, Connecticut. Further instructions on how to submit comments and additional details of the public scoping meetings are provided in the Public Participation section of this notice.

The FERC will be the lead federal agency for the preparation of the EIS and will prepare the document to satisfy the requirements of the National Environmental Policy Act (NEPA). The document will be used by the FERC to consider the environmental impacts that could result if it authorizes Algonquin's Project by issuing a Certificate of Public Convenience and Necessity under section 7 of the Natural Gas Act. It is the FERC's goal that other federal agencies will participate in the environmental review process as cooperating agencies to satisfy their respective NEPA responsibilities.

The Project must also undergo an environmental review pursuant to the Massachusetts Environmental Policy Act (MEPA). The Massachusetts Executive Office of Energy and Environmental Affairs (MEEA) is the lead state agency with responsibility for ensuring compliance with the MEPA regulations for interstate natural gas pipeline projects. The MEPA regulations allow use of a Special Review Procedure that would establish a coordinated review of the Project by the FERC and the MEEA. Establishment of a coordinated review would enable the NEPA EIS (plus an addendum document) to serve as the Environmental Impact Report (EIR) required by MEPA. It is anticipated that the FERC and the MEEA will conduct a coordinated NEPA/MEPA review of the E2W Project to the maximum extent feasible.

The Massachusetts Energy Facility Siting Board (MEFSB) is an independent board that licenses major energy facilities in Massachusetts and is charged with ensuring a reliable energy supply for the Commonwealth with a minimum impact on the environment at the lowest possible cost. The MEFSB has no authority over the siting of interstate natural gas facilities; however, it represents the citizens of Massachusetts before the FERC on cases involving the construction of applicable energy infrastructure in Massachusetts. The two Massachusetts public scoping meetings announced in this notice will be joint scoping meetings with participation by the MEFSB.

The Connecticut Siting Council (CSC) is an independent board that licenses major energy facilities in Connecticut. The CSC regulates facility siting to balance the need for adequate and reliable public services at the lowest reasonable cost to consumers with the need to protect the environment and ecology of the state. Similar to the MEFSB, the CSC has no authority over the siting of interstate natural gas facilities; however, it may become a party before the FERC on cases involving the construction of applicable energy infrastructure in Connecticut. The CSC will participate in the FERC's Connecticut scoping meeting and will announce independent hearings at a later date.

With this notice, we ¹ are asking these and other federal, state, and local agencies with jurisdiction and/or special expertise with respect to environmental issues and leaders of tribal nations to cooperate formally with us in the preparation of the EIS. These agencies may choose to participate once they have evaluated Algonquin's proposal relative to their responsibilities. Agencies that would like to request cooperating status should follow the instructions for filing comments described in the Public Participation section of this notice.

¹ “We,” “us,” and “our” refer to the environmental staff of the FERC's Office of Energy Projects.

This notice is being sent to affected landowners, including landowners potentially affected by some of the alternatives under consideration; federal, state, and local government agencies; elected officials; environmental and public interest groups; Native American tribes; other interested parties; and local libraries and newspapers. We encourage government representatives to notify their constituents of this planned Project and encourage them to comment on their areas of concern.

If you are a landowner receiving this notice, you may be contacted by an Algonquin representative about the acquisition of an easement to construct, operate, and maintain the proposed Project facilities. Algonquin would seek to negotiate a mutually acceptable agreement. However, if the Project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Algonquin proposes to modify portions of its existing pipeline system in Massachusetts, Rhode Island, Connecticut, New York, and New Jersey. The E2W Project consists of the construction and operation of 46.1 miles of various diameter pipeline and associated ancillary pipeline facilities. Of this total, 13.0 miles consist of new pipeline in Massachusetts and 33.1 miles consist of the replacement of existing pipeline in Massachusetts and Connecticut. A significant portion of the 46.1 miles of the proposed pipeline facilities would be either within the existing Algonquin right-of-way or adjacent to an existing powerline right-of-way. No new right-of-way corridors would be created based on the alignment as currently proposed with the exception of several minor alignment deviations to facilitate construction.

In addition, Algonquin proposes to construct 2 new compressor stations in Massachusetts, install over-pressure protection regulation at 4 sites in Massachusetts, and install minor modifications at 5 existing compressor stations and 29 existing meter stations along Algonquin's system in the 5 Project states as described below. A general overview of the major Project facilities is shown in Appendix 1.²

² The appendices referenced in this notice are not being printed in the Federal Register. Copies of all appendices are available on the Commission's Internet Web site (http://www.ferc.gov) at the “eLibrary” link or from the Commission's Public Reference Room at (202) 502-8371. For instructions on connecting to eLibrary, refer to the Availability of Additional Information section of this notice. Copies of the appendices were sent to all those receiving this notice in the mail. Requests for detailed maps of the proposed facilities should be made directly to Algonquin by calling 1-800-788-4143.

Specifically, the facilities proposed by Algonquin include the following:

• I-10 Extension—construction of approximately 13.0 miles of new 36-inch-diameter pipeline in Norfolk County, Massachusetts;

• Q-1 System Replacement—installation of approximately 18.5 miles of 36-inch-diameter pipeline that would replace a segment of an existing 24-inch-diameter pipeline in Norfolk County, Massachusetts;

• E-3 System Replacement—installation of approximately 11.0 miles of 12-inch-diameter pipeline that would replace a segment of an existing 6- and 4-inch-diameter pipeline in New London County, Connecticut;

• C-1 System Replacement—installation of approximately 3.6 miles of 24-inch-diameter pipeline that would replace a segment of an existing 10-inch-diameter pipeline in New Haven County, Connecticut;

• Two new compressor stations including:

○ Boxford Compressor Station—a 10,300-horsepower (hp) compressor station in Essex County, Massachusetts; and

○ Rehoboth Compressor Station—a 15,000-hp compressor station in Bristol County, Massachusetts;

• Modifications to five existing compressor stations to accommodate bi-directional flow along Algonquin's system including:

○ Burrillville Compressor Station in Providence County, Rhode Island;

○ Chaplin Compressor Station in Windham County, Connecticut;

○ Cromwell Compressor Station in Middlesex County, Connecticut;

○ Southeast Compressor Station in Putnam County, New York; and

○ Hanover Compressor Station in Morris County, New Jersey;

• Aboveground over-pressure protection regulation at two existing meter stations (Weymouth and Sharon Meter Stations) and at two new regulator stations (end of the I-10 Extension and end of the Q-1 System) along the Algonquin system in Massachusetts;

• Installation of gas chromatographs at 29 existing meter stations in Massachusetts (9), Connecticut (11), Rhode Island (2), New York (5), and New Jersey (2);

• Installation of mainline valves along the proposed pipeline facilities in Massachusetts and Connecticut; and

• Installation of pig ³ launcher and receiver facilities to connect with the existing Algonquin facilities in Massachusetts and Connecticut.

³ A pig is an internal tool that can be used to clean and dry a pipeline and/or to inspect it for damage or corrosion.

Algonquin indicates that the proposed Project would provide increased natural gas supplies and enhanced system reliability to natural gas distributors throughout the New England region. Once completed, the Project would be capable of transporting up to 1.145 million dekatherms per day of natural gas from increased gas supplies, including liquefied natural gas-source gas, entering the eastern end of the Algonquin system for redelivery to high growth markets in the Northeast region.

Algonquin anticipates that construction of the E2W Project would begin in April 2009, with a projected in-service date of November 2009.

Land Requirements for Construction

Algonquin indicates that construction of its proposed pipeline and aboveground facilities would require about 482 acres of land, including land requirements for the construction right-of-way, temporary extra work areas, access roads, pipe storage and contractor yards, and aboveground facilities. Following construction, about 253 acres of land would be retained as permanent right-of-way for the pipeline and operation of the aboveground facility sites. The remaining 229 acres of land would be restored and allowed to revert to its former use.

The centerline of the proposed I-10 Extension pipeline would generally be situated 5 feet inside the existing NSTAR Gas & Electric Corporation (NSTAR) powerline right-of-way. The pipelines for the Q-1, E-3, and C-1 Systems would be installed in the same trench as the pipelines they are replacing to the extent practicable. This same-trench replacement method of construction is referred to by Algonquin as the take-up and relay method. In general, the construction rights-of-way for the new and replacement pipelines would range from 75 to 85 feet wide with additional temporary workspace needed at certain feature crossings and to stockpile trench spoil and rock generated from trench excavation. For the majority of the route, the construction rights-of-way would overlap the existing, cleared permanent rights-of-way of Algonquin and NSTAR by various amounts. After construction, a 30-to 50-foot-wide permanent right-of-way would be retained.

The proposed Boxford Compressor Station would require approximately 8.2 acres of land for permanent development of the compressor station and associated roads and piping. However, Algonquin is considering the acquisition of land parcels totaling approximately 157 acres for the station. An alternative site to the Boxford Compressor Station, referred to as the Danvers Compressor Station Site Alternative, is also under consideration. The alternative site is approximately 50 acres in size and is located northwest and adjacent to the Danvers Landfill. The proposed Rehoboth Compressor Station would require approximately 8.8 acres of land for permanent development of the compressor station and associated roads and piping. Algonquin is considering the acquisition of land parcels totaling approximately 97 acres for the Rehoboth Compressor Station.

The modifications to the five existing compressor stations would occur within the fenceline of the existing developed compressor station sites. The over-pressure protection regulation at the two existing meter stations would be installed within previously disturbed areas at the meter station sites. The over-pressure regulator stations at the two new sites would require approximately 1 acre at each site. The installation of gas chromatographs at the 29 existing meter stations along the Algonquin system would occur within the fenceline of the existing developed meter station site. The mainline valves and pig launchers and receivers would be installed within the permanent right-of-way and would not require additional land.

The EIS Process

NEPA requires the FERC to take into account the environmental impacts that could result from an action whenever it considers the issuance of a Certificate of Public Convenience and Necessity. The EIS we are preparing is intended to give the FERC and cooperating agencies the necessary information to consider potential environmental impacts during each agency's respective review.

Although no formal application has been filed with the FERC, we have already initiated our NEPA review under the FERC's Pre-Filing Process, which was established in Docket No. RM05-31-000 and Order No. 665. The purpose of the Pre-Filing Process is to encourage the early involvement of interested stakeholders and to identify and resolve issues before an application is filed with the FERC. The MEEA, MEFSB, and CSC have agreed to begin their reviews in conjunction with the Pre-Filing Process to the extent feasible. A diagram summarizing the environmental review process for the Project is attached to this notice as Appendix 2.

The FERC staff has already started to meet with Algonquin, jurisdictional agencies, and other interested stakeholders to discuss the Project and identify issues and concerns. As part of our Pre-Filing Process review, representatives from the FERC participated in public open houses sponsored by Algonquin in the Project area between September 25 and October 11, 2007 to explain the environmental review process to interested stakeholders and take comments about the Project. During November 2007, we plan to continue the Pre-Filing Process review by conducting interagency and public scoping meetings in the Project area to solicit comments and concerns about the Project.

By this notice, we are formally announcing our preparation of the EIS and requesting additional agency and public comments to help us focus the analysis in the EIS on the potentially significant environmental issues related to the proposed action. If you provide comments at a scoping meeting, you do not need to resubmit the same comments in response to this notice.

Our independent analysis of the issues will be included in a draft EIS. The draft EIS will be mailed to federal, state, and local government agencies; elected officials; environmental and public interest groups; Native American tribes; affected and potentially affected landowners; other interested parties; local libraries and newspapers; and the FERC's official service list for this proceeding. A 45-day comment period will be allotted for review of the draft EIS. We will consider all timely comments on the draft EIS and revise the document, as necessary, before issuing a final EIS. The comment period on the draft EIS will be coordinated to the extent possible with other jurisdictional agencies.

Currently Identified Environmental Issues

The EIS will discuss impacts that could occur as a result of the construction and operation of the proposed Project. We have already identified a number of issues and alternatives that we think deserve attention based on a preliminary review of the proposed facilities, the environmental information provided by Algonquin, and the scoping comments received to date. This preliminary list of issues and alternatives may be changed based on your comments and our additional analysis.

• Geology and Soils:

○ Assessment of potential geological hazards.

○ Erosion and sedimentation control.

○ Assessment of invasive weed control plans.

○ Right-of-way restoration.

• Water Resources:

○ Impact on groundwater supplies.

○ Evaluation of temporary and permanent impacts on wetlands, restoration of wetlands, and development of appropriate wetland mitigation options.

○ Effect of pipeline crossings on perennial and intermittent waterbodies, including Norwichtown Brook, Bobbin Mill Brook, Main Brook, Honeypot Brook, and an unnamed tributary to the Quinnipiac River.

○ Assessment of methods to cross major waterbodies, including the Weymouth Fore, Charles, and Neponset Rivers in Massachusetts and the Shetucket River in Connecticut.

○ Assessment of contingency plans for frac-outs associated with horizontal directional drills.

○ Assessment of alternative waterbody crossing methods.

• Fish, Wildlife, and Vegetation:

○ Effect on coldwater and sensitive fisheries and essential fish habitat.

○ Impacts on vernal pools.

○ Effect on wildlife resources and their habitat.

○ Effect on migratory birds.

○ Assessment of construction time window restrictions.

○ Effect on riparian vegetation.

○ Assessment of measures to successfully revegetate the right-of-way.

• Special Status Species:

○ Potential effect on federally listed species.

○ Potential effect on state-listed sensitive species, including the Eastern box turtle, bridle shiner, oak hairstreak, mocha emerald, and blue-spotted salamander.

• Cultural Resources:

○ Effect on historic and prehistoric sites.

○ Native American and tribal concerns.

• Land Use, Recreation and Special Interest Areas, and Visual Resources:

○ Impacts on residential areas.

○ Blasting in proximity to residences.

○ Impacts on the Cranberry Brook Watershed Area of Critical Environmental Concern (ACEC).

○ Visual impacts.

• Socioeconomics:

○ Effects on transportation and traffic.

○ Effects of construction workforce demands on public services and temporary housing.

• Air Quality and Noise:

○ Effects on the local air quality and noise environment from construction and operation of the proposed facilities.

• Reliability and Safety:

○ Assessment of hazards associated with natural gas pipelines.

• Alternatives:

○ Assessment of existing systems, alternative system configurations, and alternative routes to reduce or avoid environmental impacts.

○ Evaluation of alternatives to avoid the Cranberry Brook Watershed ACEC.

○ Assessment of alternative compressor station locations, including the Danvers Compressor Station Site Alternative to the Boxford Compressor Station.

• Cumulative Impact:

○ Assessment of the effect of the proposed Project when combined with other past, present, or future actions in the same region.

Public Participation

You can make a difference by providing us with your specific comments or concerns about Algonquin's proposal. By becoming a commentor, your concerns will be addressed in the FERC's EIS and considered during the MEPA review. Your comments should focus on the potential environmental effects, reasonable alternatives, and measures to avoid or lessen the environmental impact. The more specific your comments, the more useful they will be. To expedite our receipt and consideration of your comments, the Commission strongly encourages electronic submission of any comments on this Project. See Title 18 Code of Federal Regulations 385.2001(a)(1)(iii) and the instructions on the Commission's Internet Web site at http://www.ferc.gov under the “eFiling” link and the link to the User's Guide. Before you can submit comments you will need to create a free account by clicking on “Sign-up” under “New User.” You will be asked to select the type of submission you are making. This type of submission is considered a “Comment on Filing.” Your comments must be submitted electronically by November 21, 2007.

If you wish to mail comments, please mail your comments so that they will be received in Washington, DC and Boston, Massachusetts on or before November 21, 2007 and carefully follow these instructions:

Send an original and two copies of your letter to:

• Kimberly D. Bose, Secretary, Federal Energy Regulatory Commission, 888 First St., NE., Room 1A, Washington, DC 20426;

• Label one copy of your comments for the attention of the Gas Branch 3, DG2E;

• Reference Docket No. PF07-15-000 on the original and both copies; and

• Send an additional copy of your letter to:

Selma H. Urman, Esq., Massachusetts Energy Facilities Siting Board, One South Station, Boston, MA 02110; or

Christine Lepage, Connecticut Siting Council, Ten Franklin Square, New Britain, CT 06051.

Your letters to the MEFSB or CSC should also reference Docket No. PF07-15-000.

Three public scoping meetings have been scheduled in the Project area to provide another opportunity to offer comments on the proposed Project. The two public scoping meetings in Massachusetts will be joint scoping meetings with participation by the MEFSB pursuant to its responsibilities outlined in 980 Code of Massachusetts Regulations section 7.07(9)(a).⁴ Interested groups and individuals are encouraged to attend the meetings and to present comments on the environmental issues they believe should be addressed in the EIS. A transcript of the meetings will be generated so that your comments will be accurately recorded. All meetings will begin at 7 p.m. (EST) and end at 10 p.m., at the following locations:

⁴ A separate scoping meeting for the MEPA process will be scheduled by the MEEA at a later date.

Date | Location
Monday, November 5, 2007 | Holiday Inn Boston-Randolph, 1374 North Main Street, Randolph, MA 02368, (781) 961-1000.
Wednesday, November 7, 2007 | Knights of Columbus Hall, 505 Sutton Street, North Andover, MA 01845, (978) 688-6812.
Thursday, November 8, 2007 | Norwich City Hall, Room 335, 100 Broadway, Norwich, CT 06360.

Once Algonquin formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

Everyone who responds to this notice or provides comments throughout the EIS process will be retained on the mailing list. If you do not want to send comments at this time but still want to stay informed and receive copies of the draft and final EISs, you must return the Mailing List Retention Form (Appendix 3). If you do not send comments or return the Mailing List Retention Form asking to remain on the mailing list, you will be taken off the mailing list.

Availability of Additional Information

Additional information about the Project is available from the Commission's Office of External Affairs at 1-866-208 FERC or on the FERC Internet Web site (http://www.ferc.gov) using the “eLibrary” link. Click on the eLibrary link, click on “General Search,” and enter the docket number excluding the last three digits in the Docket Number field (i.e., PF07-15). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as Orders, notices, and rulemakings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

To request additional information on the proposed Project or to provide comments directly to the Project sponsor, you can contact Algonquin by calling toll free at 1-800-788-4143. Also, Algonquin has established an Internet Web site at http://www.easttowestexpansion.com. The Web site includes a description of the Project, an overview map of the pipeline route, links to related documents, and photographs of the Project area. Algonquin will update the Web site as the environmental review of its Project proceeds.

Kimberly D. Bose,
Secretary.

[FR Doc. E7-20874 Filed 10-23-07; 8:45 am]

BILLING CODE 6717-01-P